DEPARTMENT OF THE INTERIOR

Fish and Wildlife Service

[FWS-HQ-EA-2013-N154; FF09X60000-FVWF97920900000-XXX]

Sport Fishing and Boating Partnership Council; Teleconference

AGENCY: Fish and Wildlife Service, Interior.

ACTION: Notice of teleconference.

SUMMARY: We, the U.S. Fish and Wildlife Service (Service), announce a public teleconference of the Sport Fishing and Boating Partnership Council (Council).

DATES: Teleconference: Friday, September 13, 2013, 12 p.m. to 1 p.m. (Eastern daylight time). For deadlines and directions on registering to listen to the teleconference, submitting written material, and giving an oral presentation, please see “Public Input” under SUPPLEMENTARY INFORMATION.

FOR FURTHER INFORMATION CONTACT: Douglas Hobbs, Council Coordinator, 4401 North Fairfax Drive, Mailstop 3103-AEA, Arlington, VA 22203; telephone (703) 358-2336; fax (703) 358-2548; or email doug_hobbs@fws.gov.

SUPPLEMENTARY INFORMATION: In accordance with the requirements of the Federal Advisory Committee Act, 5 U.S.C. App., we announce that Sport Fishing and Boating Partnership Council will hold a teleconference.

Background

The Council was formed in January 1993 to advise the Secretary of the Interior, through the Director of the Service, on nationally significant recreational fishing, boating, and aquatic resource conservation issues. The Council represents the interests of the public and private sectors of the sport fishing, boating, and conservation communities and is organized to enhance partnerships among industry, constituency groups, and government. The 18-member Council, appointed by the Secretary of the Interior, includes the Service Director and the president of the Association of Fish and Wildlife Agencies, who both serve in ex officio capacities. Other Council members are directors from State agencies responsible for managing recreational fish and wildlife resources and individuals who represent the interests of saltwater and freshwater recreational fishing, recreational boating, the recreational fishing and boating industries, recreational fisheries resource conservation, Native American tribes, aquatic resource outreach and education, and tourism. Background information on the Council is available at http://www.fws.gov/sfbpc.

Meeting Agenda

The Council will hold a teleconference to:

• Consider and approve a response to a request for comments on recommendation number 17, Hunting, Fishing and Outdoor Recreation strategy, of the National Wildlife Refuge System Vision, and

• Consider other Council business, including planning for the October 2013 meeting.

The final agenda will be posted on the Internet at http://www.fws.gov/sfbpc.

Public Input

If you wish to | You must contact the Council Coordinator (see FOR FURTHER INFORMATION CONTACT) no later than
Listen to the teleconference | Monday, September 9, 2013.
Submit written information or questions before the teleconference for the council to consider during the teleconference | Monday, September 9, 2013.
Give an oral presentation during the teleconference | Monday, September 9, 2013.

Submitting Written Information or Questions

Interested members of the public may submit relevant information or questions for the Council to consider during the teleconference. Written statements must be received by the date listed in “Public Input” under SUPPLEMENTARY INFORMATION, so that the information may be made available to the Council for their consideration prior to this teleconference. Written statements must be supplied to the Council Coordinator in one of the following formats: One hard copy with original signature, and one electronic copy via email (acceptable file formats are Adobe Acrobat PDF, MS Word, MS PowerPoint, or rich text file).

Giving an Oral Presentation

Individuals or groups requesting to make an oral presentation during the teleconference will be limited to 2 minutes per speaker, with no more than a total of 15 minutes for all speakers. Interested parties should contact the Council Coordinator, in writing (preferably via email; see FOR FURTHER INFORMATION CONTACT), to be placed on the public speaker list for this teleconference. To ensure an opportunity to speak during the public comment period of the teleconference, members of the public must register with the Council Coordinator. Registered speakers who wish to expand upon their oral statements, or those who had wished to speak but could not be accommodated on the agenda, may submit written statements to the Council Coordinator up to 30 days subsequent to the teleconference.

Meeting Minutes

Summary minutes of the teleconference will be maintained by the Council Coordinator (see FOR FURTHER INFORMATION CONTACT) and will be available for public inspection within 90 days of the meeting and will be posted on the Council's Web site at http://www.fws.gov/sfbpc.

Stephen Guertin,
Director.

[FR Doc. 2013-20937 Filed 8-27-13; 8:45 am]

BILLING CODE 4310-55-P